FEDERAL MARITIME COMMISSION

Ocean Transportation Intermediary License; Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel-Operating Common Carrier Ocean Transportation Intermediary Applicants

Offshore Logistics, LLC, 400 West Knight Road, McDonough, GA 30253. Officers: Gregory M. Hinton, COO (Qualifying Individual), Dennis H. Jones, CEO.

Kayla Logistics, Corp., 153-04 Rockaway Blvd., Jamaica, NY 11434. Officers: John S. Tomeo, Dir. of Global Logistics (Qualifying Individual), Ahmet Kurmemaj, President.

Braid Logistics (UK) Limited, 143 Woodville Street, Glasgow G51 2RQ, United Kingdom. Officer: Nigel Anthony Harden Gray, Chairman (Qualifying Individual).

Non-Vessel-Operating Common Carrier and Ocean Freight Forwarder Transportation Intermediary Applicants

Sam's Moving & Overseas Shipping, Inc., 116-09 208 Street, Cambria Heights, NY 11411. Officers: Colin F. Sam, President (Qualifying Individual), Herbert Edwards, Secretary.

HTNS America, Inc. dba UKO Logis, Inc., 879 W. 190th Street, Ste. 290, Gardena, CA 90248. Officer: Kathy Om, CFO (Qualifying Individual).

Pride Worldwide, Inc., 44 W. Jefryn Blvd., Ste. N, Deer Park, NY 11729. Officers: Steven Rakiec, President (Qualifying Individual), Chris Kosis, Vice President.

H.B. Shipping, 16526 Air Center Blvd., Houston, TX 77032. Officer: Albert E. Garcia, Jr., President (Qualifying Individual).

Thornley & Pitt, Inc., 126 Hawthorne Street, San Francisco, CA 94107. Officer: Jeanne M. Burns, President (Qualifying Individual).

Letter Express of Broward Inc. dba Letter Express Courier & Logistics Inc., 2111 NW. 79th Avenue, Miami, FL 33122. Officer: Rafael Landa, President (Qualifying Individual).

Skelton Sherborne, Inc., 1225 North Loop West, #432, Houston, TX 77008. Officer: Elizabeth Rivera, Secretary (Qualifying Individual).

Seaworld Express Lines LLC, 2244 Landmeier Road, Elk Grove Village, IL 60007. Officers: Pieter A. Broos, Member/Manager (Qualifying Individual), Stewart Brown, Manager.

POL USA Logistics Corp, 375 Blair Road, Avenel, NJ 07001. Officers: Lawrence D. Serronico, Vice President (Qualifying Individual), Grzegorz Giza, President.

Ocean Freight Forwarder—Ocean Transportation Intermediary Applicants

MEBS Global Reach LC, 4500 Southgate Place, Ste. 700, Chantilly, VA 20151. Officers: Mitchell J. Martin, Director (Qualifying Individual), Bruce Oliver, Sr., Vice President.

Water Link Corp., 1835 NW. 112th Ave., Ste. 161, Miami, FL 33172. Officers: Luis A. Camacho, President (Qualifying Individual), Maria J. Camacho, Vice President.

Ablehelp Export Services Inc., 3217 75th Ave., Ste. 302, Landover, MD 20785. Officer: Moses C. Ike, President (Qualifying Individual).

Dated: August 3, 2009.
Karen V. Gregory,
Secretary.

[FR Doc. E9-18880 Filed 8-5-09; 8:45 am]

BILLING CODE P